DEPARTMENT OF AGRICULTURE

Grain Inspection, Packers and Stockyards Administration (GIPSA).

[00-B]

Pilot Programs for Official Agencies

ACTION: Notice.

SUMMARY: GIPSA is extending the current three pilot programs (timely service, open season, and barge) pending changes to the current statutory authority for such programs. These pilot programs were established in 1995 and 1998 to allow more than one official agency to provide official services within a single geographic area. These programs are scheduled to end on September 30, 2000.

FOR FURTHER INFORMATION CONTACT: Neil E. Porter, telephone 202-720-8262.

SUPPLEMENTARY INFORMATION: Sections 7(f) and 7A of the United States Grain Standards Act (Act) (7 U.S.C. 79(f)) and (7 U.S.C. 79a) were amended by the United States Grain Standards Act Amendments of 1993 (Public Law 103-156) on November 24, 1993, to authorize GIPSA's Administrator to conduct pilot programs allowing more than one official agency to provide official services within a single geographic area without undermining the declared policy of the Act. The purpose of the pilot programs is to evaluate the impact of allowing more than one official agency to provide official services within a single geographic area. These pilot programs are scheduled to end on September 30, 2000.

On September 27, 1995, GIPSA published a Federal Register Notice (60 FR 49828), announcing two new pilot programs (timely service and open season) to begin on November 1, 1995. The timely service pilot program allowed official agencies to provide official services to facilities outside their assigned geographic area on a case-by-case basis when these services could not be provided in a timely manner by the official agency designated to serve the area. The open season pilot program allowed official agencies to offer their services to facilities outside their assigned geographic area where no official sample-lot or official weighing services had been provided in the previous 6 months. On October 3, 1996, GIPSA published a Federal Register Notice (61 FR 51674), which reduced the qualification period to 3 months.

On January 15, 1998, GIPSA published a Federal Register Notice (63 FR 2360), announcing a pilot program allowing barges on all rivers to be sampled by probe by any official agency. This barge pilot option was initiated on March 1, 1998.

On October 1, 1998, GIPSA published a Federal Register Notice (63 FR 52682) extending the three pilot programs to September 30, 2000.

The pilot programs are extended pending changes to the current statutory authority for the pilot programs. GIPSA will continue to monitor and evaluate the pilot programs. If, at any time, GIPSA determines that any pilot program is having a negative impact on the offical system or is not working as intended, the program may be modified or discontinued.

Authority: Pub. L. 94-582, 90 Stat. 2867, as amended (7 U.S.C. 71 et seq.).

Dated: September 22, 2000.
Neil E. Porter,
Director, Compliance Division.

[FR Doc. 00-24925 Filed 9-28-00; 8:45 am]

BILLING CODE 3410-EN-U